POSTAL SERVICE

United States Postal Service Board of Governors; Sunshine Act Meeting

Board Votes to Close July 15, 2005, Meeting

In person and by telephone vote on July 15, 2005, a majority of the members contacted and voting, the Board of Governors voted to close to public observation a meeting held in Washington, DC, via teleconference. The Board determined that prior public notice was not possible.

Item Considered

1. Strategic Planning.

General Counsel Certification

The General Counsel of the United States Postal Service has certified that the meeting was properly closed under the Government in the Sunshine Act.

FOR FURTHER INFORMATION CONTACT: Requests for information about the meeting should be addressed to the Secretary of the Board, William T. Johnstone, at (202) 268-48000.

William T. Johnstone,
Secretary.

[FR Doc. 05-14774 Filed 7-21-05; 4:09 pm]

BILLING CODE 7710-12-M